DEPARTMENT OF ENERGY

Federal Energy Regulatory Commission

[Docket No. EC01-141-000, et al.]

Progress Energy, Inc., et al.; Electric Rate and Corporate Regulation Filings

August 24, 2001.

Take notice that the following filings have been made with the Commission:

1. Progress Energy, Inc.

[Docket No. EC01-141-000]

Take notice that on August 16, 2001, Progress Energy, Inc., on behalf of Carolina Power & Light Company, Progress Genco Ventures, LLC, Progress Energy Ventures, Inc., Richmond County Power, LLC, Monroe Power Company, Effingham County Power, LLC, MPC Generating, LLC, Newco, and Rowan County Power, LLC (collectively, Applicants) tendered for filing an application requesting all necessary authorizations under Section 203 of the Federal Power Act, 16 U.S.C. 824b (1996), to engage in a corporate reorganization.

Comment date: September 6, 2001, in accordance with Standard Paragraph E at the end of this notice.

2. Maine Electric Power Company

[Docket No. ER01-2889-000]

Please take notice that on August 21, 2001, Maine Electric Power Company (MEPCO) tendered for filing the assignment of a service agreement for Long-Term Firm Point-to-Point transmission service, originally entered into with FPL Energy Power Marketing, Inc., to Aroostook Valley Electric Company. Service will be provided pursuant to MEPCO's Open Access Transmission Tariff, designated rate schedule MEPCO—FERC Electric Tariff, Original Volume No. 1, as supplemented, Original Service Agreement No. 201.

Comment date: September 11, 2001, in accordance with Standard Paragraph E at the end of this notice.

3. Ameren Energy, Inc. on behalf of Union Electric Company d/b/a AmerenUE, Ameren Energy Marketing Company and Ameren Energy Generating Company

[Docket No. ER01-2890-000]

Take notice that on August 21, 2001, Ameren Energy, Inc. (Ameren Energy), on behalf of Union Electric Company d/b/a AmerenUE, Ameren Energy Market Company, and Ameren Energy Generating Company (collectively, the Ameren Parties), pursuant to section 205 of the Federal Power Act, 16 U.S.C. 824d, and the market rate authority granted to the Ameren Parties, submitted for filing umbrella power sales service agreements under the Ameren Parties' market rate authorizations. Ameren Energy seeks Commission acceptance of these service agreements effective July 22, 2001.

Copies of this filing were served on the public utilities commissions of Illinois and Missouri.

Comment date: September 11, 2001, in accordance with Standard Paragraph E at the end of this notice.

4. Unitil Power Corp.

[Docket No. ER01-2892-000]

Take notice that on August 21, 2001, Unitil Power Corp. (UPC) tendered for filing a service agreement between UPC and Reading Municipal Lighting Department for service under UPC's Market-Based Power Sales Tariff. This Tariff was accepted for filing by the Commission on September 25, 1997, in Docket No. ER97-2460-000. UPC requests an effective date of August 10, 2001 for the service agreement with Reading Municipal Lighting Department

Comment date: September 11, 2001, in accordance with Standard Paragraph E at the end of this notice.

5. El Paso Electric Company

[Docket No. ER01-2893-000]

Take notice that on August 21, 2001, El Paso Electric Company (El Paso) tendered for filing a Service Agreement with Conoco Inc. for Non-Firm Transmission Service under El Paso's Open Access Transmission Tariff. El Paso requests that the proposed Service Agreement be permitted to become effective on July 21, 2001. El Paso states that this filing is in accordance with Part 35 of the Commission's regulations, 18 CFR 35, and that a copy has been served on the Texas Public Utility Commission.

Comment date: September 11, 2001, in accordance with Standard Paragraph E at the end of this notice.

6. El Paso Electric Company

[Docket No. ER01-2894-000]

Take notice that on August 21, 2001, El Paso Electric Company (El Paso) tendered for filing a Service Agreement with Conoco Inc. for Firm Transmission Service under El Paso's Open Access Transmission Tariff. El Paso requests that the proposed Service Agreement be permitted to become effective on July 21, 2001. El Paso states that this filing is in accordance with Part 35 of the Commission's regulations, 18 CFR 35, and that a copy has been served on the Texas Public Utility Commission.

Comment date: September 11, 2001, in accordance with Standard Paragraph E at the end of this notice.

7. Duke Energy Corporation

[Docket No. ER01-2896-000]

Take notice that on August 21, 2001, Duke Energy Corporation (Duke) tendered for filing a Service Agreement with Coral Power, L.L.C. for Firm Transmission Service under Duke's Open Access Transmission Tariff. Duke requests that the proposed Service Agreement be permitted to become effective on July 21, 2001. Duke states that this filing is in accordance with Part 35 of the Commission's Regulations, 18 CFR 35, and that a copy has been served on the North Carolina Utilities Commission.

Comment date: September 11, 2001, in accordance with Standard Paragraph E at the end of this notice.

8. Commonwealth Edison Company

[Docket No. ER01-2897-000]

Take notice that on August 21, 2001 Commonwealth Edison Company (ComEd) submitted for filing a Firm Point-To-Point Transmission Service Agreement (Service Agreement) between ComEd and Exelon Generation Company, LLC (Exelon) under the terms of ComEd's Open Access Transmission Tariff (OATT). A copy of this filing was served on Exelon.

ComEd requests an effective date of July 1, 2001 to coincide with the first day of service to Exelon under this Service Agreement.

Comment date: September 11, 2001, in accordance with Standard Paragraph E at the end of this notice.

9. Pennsylvania Electric Company

[Docket No. ER01-2898-000]

Take notice that on August 21, 2001, Pennsylvania Electric Company (doing business as GPU Energy) submitted for filing a Generation Facility Interconnection Agreement between Pennsylvania Electric Company d/b/a GPU Energy and Northern Tier Solid Waste Authority.

Comment date: September 11, 2001, in accordance with Standard Paragraph E at the end of this notice.

10. Duke Energy Corporation

[Docket No. ER01-2899-000]

Take notice that on August 21, 2001, Duke Energy Corporation (Duke) tendered for filing a Service Agreement with Conectiv Energy Supply, Inc. for Firm Transmission Service under Duke's Open Access Transmission Tariff. Duke requests that the proposed Service Agreement be permitted to become effective on July 21, 2001. Duke states that this filing is in accordance with Part 35 of the Commission's Regulations, 18 CFR 35, and that a copy has been served on the North Carolina Utilities Commission.

Comment date: September 11, 2001, in accordance with Standard Paragraph E at the end of this notice.

11. Northeast Utilities Service Company

[Docket No. ER01-2900-000]

Take notice that Northeast Utilities Service Company (NUSCO) on August 21, 2001, tendered for filing, Service Agreement to provide Firm Point-To-Point Transmission Service to Pontook Operating Limited Partnership under the NU System Companies' Open Access Transmission Service Tariff No. 9. NUSCO state that a copy has been mailed to Pontook Operating Limited Partnership.

NUSCO requests that the Service Agreement become effective September 15, 2001.

Comment date: September 11, 2001, in accordance with Standard Paragraph E at the end of this notice.

12. Consumers Energy Company

[Docket No. ER01-2901-000]

Take notice that on August 21, 2001 Consumers Energy Company (Consumers) tendered for filing a Service Agreement with DTE Energy Trading, Inc. (Customer) under Consumers' FERC Electric Tariff No. 9 for Market Based Sales. Consumers requested that the Agreement be allowed to become effective as of August 3, 2001. Copies of the filing were served upon the Customer and the Michigan Public Service Commission.

Comment date: September 11, 2001, in accordance with Standard Paragraph E at the end of this notice.

13. Brownsville Power I, L.L.C., Caledonia Power I, L.L.C., Cinergy Capital & Trading, Inc., CinCapPIC, LLC, CinPeak Resources, LLC, Littlebrook Funding, L.L.C.

[Docket No. EC01-143-000]

Take notice that on August 20, 2001, Cinergy Capital & Trading, Inc., Brownsville Power I, L.L.C., Caledonia Power I, L.L.C., CinCapPIC, LLC, CinPeak Resources, LLC, and Littlebrook Funding, L.L.C. (collectively, Applicants) tendered for filing an application requesting all necessary authorizations under Section 203 of the Federal Power Act, for a transfer of jurisdictional facilities to facilitate financing and investment arrangements.

Comment date: September 10, 2001, in accordance with Standard Paragraph E at the end of this notice.

14. Calpine Construction Finance Company, L.P. South Point Energy Center, LLC

[Docket No. EC01-144-000]

Take notice that on August 20, 2001, Calpine Construction Finance Company, L.P. and South Point Energy Center, LLC filed with the Federal Energy Regulatory Commission (Commission) an application pursuant to section 203 of the Federal Power Act for authorization of the disposition of jurisdictional facilities in connection with a sale and lease financing transaction involving the South Point Energy Center, a 530-MW natural gas-fired, combined cycle generating facility being constructed near Bullhead City, Arizona. The jurisdictional facilities being transferred include the 230 kV interconnection facilities and a long-term power marketing agreement. The application includes a request for privileged treatment of information.

Comment date: September 10, 2001, in accordance with Standard Paragraph E at the end of this notice.

15. Duke Energy Corporation

[Docket No. ER01-2895-000]

Take notice that on August 21, 2001, Duke Energy Corporation (Duke) tendered for filing a Service Agreement with Western Resources, Inc. for Firm Transmission Service under Duke's Open Access Transmission Tariff. Duke requests that the proposed Service Agreement be permitted to become effective on July 21, 2001. Duke states that this filing is in accordance with Part 35 of the Commission's Regulations, 18 CFR Part 35, and that a copy has been served on the North Carolina Utilities Commission.

Comment date: September 11, 2001, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-21922 Filed 8-29-01; 8:45 am]

BILLING CODE 6717-01-P